DEPARTMENT OF THE INTERIOR

Bureau of Ocean Energy Management, Regulation and Enforcement

[Docket ID No. BOEM-2011-0020]

Information Collection Activity: Unitization, Extension of a Collection; Submitted for Office of Management and Budget (OMB) Review; Comment Request

AGENCY: Bureau of Ocean Energy Management, Regulation and Enforcement (BOEMRE), Interior.

ACTION: Notice.

SUMMARY: To comply with the Paperwork Reduction Act of 1995 (PRA), we are notifying the public that we have submitted to OMB an information collection request (ICR) to renew approval of the paperwork requirements in the regulations under Unitization (OMB Control No. 1010-0068). This notice also provides the public a second opportunity to comment on the paperwork burden of these regulatory requirements.

DATES: Submit written comments by October 6, 2011.

ADDRESSES: Submit comments by either fax (202) 395-5806 or e-mail (OIRA_DOCKET@omb.eop.gov) directly to the Office of Information and Regulatory Affairs, OMB, Attention: Desk Officer for the Department of the Interior (1010-0068). Please also submit a copy of your comments to BOEMRE by any of the means below.

• Electronically: go to http://www.regulations.gov. In the entry titled, Enter Keyword or ID, enter BOEM-2011-0020 then click search. Follow the instructions to submit public comments and view supporting and related materials available for this collection. BOEMRE will post all comments.

• E-mail cheryl.blundon@boemre.gov. Mail or hand-carry comments to: Department of the Interior; Bureau of Ocean Energy Management, Regulation and Enforcement; Attention: Cheryl Blundon; 381 Elden Street, MS-4024; Herndon, Virginia 20170-4817. Please reference ICR 1010-0068 in your comment and include your name and return address.

FOR FURTHER INFORMATION CONTACT: Cheryl Blundon, Regulations and Standards Branch, (703) 787-1607. To see a copy of the entire ICR submitted to OMB, go to http://www.reginfo.gov (select Information Collection Review, Currently Under Review). You may also contact Cheryl Blundon to obtain a copy, at no cost, of the regulation that requires the subject collection of information.

SUPPLEMENTARY INFORMATION:

Title: 30 CFR 250, Subpart M, Unitization.

OMB Control Number: 1010-0068.

Abstract: The Outer Continental Shelf (OCS) Lands Act, as amended (43 U.S.C. 1331 et seq. and 43 U.S.C. 1801 et seq.), authorizes the Secretary of the Interior (Secretary) to prescribe rules and regulations to administer leasing of the OCS. Section 1334(a) specifies that the Secretary “provide for the prevention of waste and conservation of the natural resources of the [O]uter Continental Shelf, and the protection of correlative rights therein” and include provisions for “unitization, pooling, and drilling agreements.”

The Independent Offices Appropriations Act (31 U.S.C. 9701), the Omnibus Appropriations Bill (Pub. L. 104-133, 110 Stat. 1321, April 26, 1996), and OMB Circular A-25, authorize Federal agencies to recover the full cost of services that confer special benefits. Unitization requests for approval are subject to cost recovery, and BOEMRE regulations specify service fees for these requests.

Regulations implementing these responsibilities are under 30 CFR 250, subpart M. Responses are required to obtain or retain a benefit and mandatory. No questions of a sensitive nature are asked. BOEMRE protects information considered proprietary according to the Freedom of Information Act (5 U.S.C. 552) and its implementing regulations (43 CFR 2), and 30 CFR 250.197, “Data and information to be made available to the public or for limited inspection,” and 30 CFR part 252, “OCS Oil and Gas Information Program.”

BOEMRE must approve any lessee's proposal to enter an agreement to unitize operations under two or more leases and for modifications when warranted. Lessees submit consolidated Exploration Plans and Development and Production Plans for a unit area. We use the information to ensure that operations under the proposed unit agreement will result in preventing waste, conserving natural resources, and protecting correlative rights including the government's interests.

Frequency: On occasion.

Description of Respondents: Potential respondents comprise Federal oil, gas, or sulphur lessees and/or holders of pipeline-rights-of-way.

Estimated Reporting and Recordkeeping Hour Burden: The estimated annual hour burden for this information collection is a total of 3,348 hours. The following chart details the individual components and estimated hour burdens. In calculating the burdens, we assumed that respondents perform certain requirements in the normal course of their activities. We consider these to be usual and customary and took that into account in estimating the burden.

Citation 30 CFR 250 subpart M | Reporting requirement | Hour burden | Average number annual responses | Annual burden hours
| Non-hour cost burdens*
Requests
1301 | Description of requirements | Burden included in the following sections. |  | 0
1301(d), (f)(3), (g)(1), (g)(2) (ii) | Request suspension of production or operations | Burden covered in 1010-0114. |  | 0
1302(b) | Request preliminary determination on competitive reservoir | 80 | 1 request | 80
1304(b) | Request compulsory unitization, including submitting unit agreement, unit operating agreement, initial plan of operation, obtain approval of Regional Supervisor if required, and supporting data; serving non-consenting lessees with documents | 205 | 1 request | 205
1304(d) | Request hearing on required unitization | 1 | 1 request | 1
Subtotal | 3 responses | 285
Submittals
1302(b) | Submit concurrence or objection on competitiveness with supporting evidence | 35 | 1 request | 35
1302(c), (d) | Submit joint plan of operations, supplemental plans, or a separate plan if agreement cannot be reached | 45 | 1 plan | 45
1303; 1304 | **Submit revisions or modifications to unit agreement, unit operating agreement, plan of operation, change of unit operator, etc | 8 | 50 revs/mods | 400
|  | $831 fees × 50 revisions/modifications = $41,550.
1303; 1304 | **Submit initial, and revisions to, participating area | 54 | 10 submissions | 540
1304(d) | Submit statement at hearing on compulsory unitization | 5 | 1 statement | 5
1304(e) | Pay for and submit three copies of verbatim transcript of hearing | 1 | 1 submission | 1
|  | Court reporter and 3 transcript copies for 1 hearing = $500.
Subtotal | 64 responses | 1,026
|  |  | $42,050 non-hour cost burdens.
General
1303 | Apply for voluntary unitization, including submitting unit agreement, unit operating agreement, initial plan of operation, obtain approval of Regional Supervisor if required, and supporting data; request for variance from model agreement and other related requirements | 185 | 11 applications/plans | 2,035
|  | $11,698 fee × 11 applications/plans = $128,678.
1304(f) | Appeal final order of compulsory unitization | Exempt as defined in 5 CFR 1320.4(a)(2), (c). |  | 0
1300-1304 | General departure and alternative compliance requests not specifically covered elsewhere in subpart M regulations | 1 | 2 requests | 2
Subtotal | 13 responses | 2,037
|  |  | $128,678 non-hour cost burdens.
Total Burden | 80 responses | 3,348
|  |  | $170,728 Non-Hour Cost Burdens.
* The non-hour cost burdens that are associated with cost recovery monies collected are based on actual submittals through Pay.gov for FY 2010.
** These requirements are specified in each Unit Agreement.

Estimated Reporting and Recordkeeping Non-Hour Cost Burden: We have identified three non-hour cost burdens associated with this information collection. Section 250.1303 requires respondents to pay filing fees when (1) Applying for a voluntary unitization proposal or unit expansion ($11,698), as well as a (2) unitization revision ($831). The filing fees are required to recover the Federal Government's processing costs. Section 250.1304(d) provides an opportunity for parties notified of compulsory unitization to request a hearing; therefore § 250.1304(e) requires the party seeking the compulsory unitization to (3) pay for the court reporter and three copies of the verbatim transcript of the hearing (approximately $500).

It should be noted there have been no such hearings in the recent past, and none are expected in the near future. We estimate a total reporting non-hour cost burden of $170,728. We have not identified any other paperwork non-hour cost burdens associated with the collection of information.

Comments: Section 3506(c)(2)(A) of the PRA (44 U.S.C. 3501, et seq.) requires each agency “ * * * to provide notice * * * and otherwise consult with members of the public and affected agencies concerning each proposed collection of information * * * ” Agencies must specifically solicit comments to: (a) Evaluate whether the proposed collection of information, including whether the information is useful; (b) evaluate the accuracy of the agency's estimate of the burden of the proposed collection of information; (c) enhance the quality, usefulness, and clarity of the information to be collected; and (d) minimize the burden on the respondents.

To comply with the public consultation process, on May 13, 2011, we published a Federal Register notice (76 FR 28058) announcing that we would submit this ICR to OMB for approval. The notice provided the required 60-day comment period. In addition, § 250.199 provides the OMB control number for the information collection requirements imposed by the 30 CFR 250 regulations. The regulation also informs the public that they may comment at any time on the collections of information and provides the address to which they should send comments. We have received no comments in response to these efforts.

Send any comments to the offices listed under the ADDRESSES section of this notice. The OMB has up to 60 days to approve or disapprove the information collection but may respond after 30 days. Therefore, to ensure maximum consideration, OMB should receive public comments by October 6, 2011.

Public Availability of Comments: Before including your address, phone number, email address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: August 22, 2011.
Sharon Buffington,
Acting Office of Offshore Regulatory Programs.

[FR Doc. 2011-22651 Filed 9-2-11; 8:45 am]

BILLING CODE 4310-MR-P